NATIONAL RAILROAD PASSENGER CORPORATION

49 CFR Part 701

Freedom of Information Act Program

AGENCY: National Railroad Passenger Corporation.

ACTION: Interim final rule.

SUMMARY: The National Railroad Passenger Corporation (“Amtrak”) needs to update the addresses, increase the fees on the fee schedule, and update methodology for filing FOIA requests.

DATES: This rule is effective September 29, 2025. Comments must be received by August 29, 2025.

ADDRESSES: Comments must be submitted in one of the following two ways (please choose only one of the ways listed):

• Electronically at https://www.regulations.gov. Follow the “Submit a comment” instructions. If you are reading this document on federalregister.gov, you may use the green “SUBMIT A PUBLIC COMMENT” button beneath this rulemaking's title to submit a comment to the regulations.gov docket.

• You may mail written comments to the following address: {FOIA Office, Amtrak, 1 Massachusetts Ave. NW, Washington, DC 20001}. Mailed comments must be received by the close of the comment period.

Do not include any personally identifiable information (such as name, address, or other contact information) or confidential business information that you do not want publicly disclosed. All comments are public records; they are publicly displayed exactly as received, and will not be deleted, modified, or redacted. Comments may be submitted anonymously.

Follow the search instructions on https://www.regulations.gov to view public comments.

FOR FURTHER INFORMATION CONTACT: Rebecca Conner, 202-906-3215.

SUPPLEMENTARY INFORMATION: This rule increases the fees for search and processing time from $38 per hour to $50 per hour, to better align with the average fees set by other federal agencies. This rule also updates the addresses for mailing as the offices moved and changed addresses. Finally, this rule adds the link for the FOIA portals for submitting requests.

List of Subjects in 49 CFR Part 701

Freedom of information.

For the reasons stated in the preamble, the National Railroad Passenger Corporation amends 49 CFR part 701 as follows:

PART 701—AMTRAK FREEDOM OF INFORMATION ACT PROGRAM

1. The authority citation for part 701 continues to read as follows:

Authority: 5 U.S.C. 552; 49 U.S.C. 24301(e).

2. Revise and republish § 701.5(b)(2) to read as follows:

§ 701.5 Requirements for making requests.

* * * * *

(b) * * *

(2)The request must be addressed to the Freedom of Information Office; National Railroad Passenger Corporation; 1 Massachusetts Avenue NW, Washington, DC 20001. Requests will also be accepted by submission in Amtrak's FOIA portal at https://pal-amtrak.efoia-host.com/ or through the National FOIA Portal at https://www.foia.gov/. Amtrak cannot assure that a timely or satisfactory response under this part will be given to written requests addressed to Amtrak offices, officers, or employees other than the FOIA Office. Amtrak employees receiving a communication in the nature of a FOIA request shall forward it to the FOIA Office expeditiously. Amtrak shall advise the requesting party of the date that an improperly addressed request is received by the FOIA Office.

* * * * *

3. Revise and republish § 701.10(a)(2) to read as follows:

§ 701.10 Appeals.

(a) * * *

(2) The appeal must be addressed to the Executive Vice President, Chief Legal and Human Resources Officer; National Railroad Passenger Corporation; 1 Massachusetts Avenue NW, Washington, DC 20001.

* * * * *

4. Revise and republish § 701.11(a) to read as follows:

§ 701.11 Fees.

(a) Amtrak shall charge for processing requests under the FOIA in accordance with this section. A fee of $50 per hour shall be charged for search and review. For information concerning other processing fees, refer to paragraph (e) of this section. Amtrak shall collect all applicable fees before releasing copies of requested records to the requesting party. Payment of fees shall be made by check or money order payable to the National Railroad Passenger Corporation.

* * * * *

Dated: June 23, 2025.
Rebecca Conner,
Manager of Records and Information Management.

[FR Doc. 2025-12035 Filed 6-27-25; 8:45 am]

BILLING CODE P